DEPARTMENT OF THE INTERIOR

National Park Service

[NPS-WASO-NRNHL-24899; PPWOCRADI0, PCU00RP14.R50000]

National Register of Historic Places; Notification of Pending Nominations and Related Actions

AGENCY: National Park Service, Interior.

ACTION: Notice.

SUMMARY: The National Park Service is soliciting comments on the significance of properties nominated before January 13, 2018, for listing or related actions in the National Register of Historic Places.

DATES: Comments should be submitted by February 13, 2018.

ADDRESSES: Comments may be sent via U.S. Postal Service and all other carriers to the National Register of Historic Places, National Park Service, 1849 C St. NW, MS 7228, Washington, DC 20240.

SUPPLEMENTARY INFORMATION: The properties listed in this notice are being considered for listing or related actions in the National Register of Historic Places. Nominations for their consideration were received by the National Park Service before January 13, 2018. Pursuant to section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State Historic Preservation Officers:

ALASKA

Lake and Peninsula Borough

Hammond, Jay and Bella, Homestead, N shore of L. Clark, Port Alsworth vicinity, SG100002107

DISTRICT OF COLUMBIA

District of Columbia

Equitable Life Insurance Building, 3900 Wisconsin Ave. NW, Washington, SG100002110

Homestead Apartments, The, (Apartment Buildings in Washington, DC, MPS), 812 Jefferson St. NW, Washington, MP100002111

LOUISIANA

Caddo Parish

Bethune Junior—Senior High School, (Caddo Parish Public School System Building Program, 1946-1961 MPS), 4331 Henry St., Shreveport, MP100002113

Orleans Parish

Priestley, Alfred C., Junior High School, (Public Schools of the Consolidation and Conversion Era in Orleans Parish, 1945-1960 MPS), 1601 Leonidas St., New Orleans, MP100002115

West Baton Rouge Parish

St. Mark's Baptist Church and Ashland Cemetery, 6025 Section Rd., Fort Allen, SG100002116

OHIO

Belmont County

George—Caldwell—Grum Farm, Address Restricted, Belmont vicinity, SG100002118

Clark County

Myers Daily Market, 101 S Fountain Ave., Springfield, SG100002119

Cuyahoga County

Bruce—Macbeth Engine Company, 2111 Center St., Cleveland, SG100002120

Hamilton County

Building at 620—622 Vine Street, 620-622 Vine St., Cincinnati, SG100002121

Lawrence County

Chesapeake High School, 3748 OH 7, Chesapeake, SG100002122

Medina County

Medina Farmers Exchange Co., 320 S Court St., Medina, SG100002123

Trumbull County

Newton Falls United Service Organization (USO) Center, 52 E Quarry St., Newton Falls, SG100002124

SOUTH CAROLINA

Spartanburg County

Montgomery Building (Boundary Decrease), 187 N. Church St., Spartanburg, BC100002126

TEXAS

Bexar County

Green, Robert B., Memorial Hospital, 903 W Martin St., San Antonio, SG100002127

San Antonio Downtown and River Walk Historic District, Roughly bounded by Camaron, Augusta, 6th, Bonham, Losoya, & Tolie Place, San Antonio, SG100002128

El Paso County

El Paso Natural Gas Company (Blue Flame) Building, 120 N Stanton, El Paso, SG100002129

Lubbock County

Lubbock County Jail, 811 Main St., Lubbock, SG100002130

Potter County

Amarillo Building, 301 S Polk, Amarillo, SG100002131

Young County

State Highway 120 Bridge at the Brazos River, (Road Infrastructure of Texas, 1866-1965 MPS), Hardin Ln. at the Brazos R., Newcastle vicinity, MP100002132

VIRGINIA

Halifax County

Dewberry Hill, 2181 Wilkins Rd., Alton vicinity, SG100002133

Riverside, 11161 River Rd., Sutherlin vicinity, SG100002134

Walters—Moshier House, 1421 N Main St., South Boston vicinity, SG100002135

Henry County

Highlands, The, 510 Edgewood Dr., Stanleytown, SG100002136

Lancaster County

Greenfield, 412 Greenfields Ln., Whitestone vicinity, SG100002137

Mecklenburg County

Groom, John, Elementary School, 1050 Plank Rd., South Hill, SG100002138

Staunton Independent City

Montgomery Hall Park, 1000 Montgomery Ave., Staunton (Independent City), SG100002139

WISCONSIN

Winnebago County

Fraternal Order of Eagles, 405 Washington Ave., Oshkosh, SG100002140

Waite Grass Carpet Company, 300 E Custer & 221 E Nevada Aves., Oshkosh, SG100002141

A request for removal has been made for the following resource:

OREGON

Hood River County

Roe—Parker House, 416 State St., Hood River, OT88000085

Nominations submitted by Federal Preservation Officers:

The State Historic Preservation Officer reviewed the following nominations and responded to the Federal Preservation Officer within 45 days of receipt of the nominations and supports listing the properties in the National Register of Historic Places.

CALIFORNIA

Marin County

Marconi—RCA Bolinas Transmitting Station, Mesa Rd., Bolinas, SG100002108

RCA Point Reyes Receiving Station, 17400 Sir Francis Drake Blvd., Inverness, SG100002109

Authority: 60.13 of 36 CFR part 60.

Dated: January 17, 2018.
J. Paul Loether,
Chief, National Register of Historic Places/National Historic Landmarks Program and Keeper, National Register of Historic Places.

[FR Doc. 2018-01630 Filed 1-26-18; 8:45 am]

BILLING CODE 4312-52-P